GENERAL SERVICES ADMINISTRATION

Office of Governmentwide Policy; Cancellation of an Optional Form by the Department of State

AGENCY: General Services Administration.

ACTION: Notice.

SUMMARY: The Department of State has cancelled the following Optional Form because it is no longer required:

OF 140, Election to Receive Extra Service Credit Toward Retirement and Support of Residence of Spouse.

FOR FURTHER INFORMATION CONTACT: Mr. Charles Cunningham, Department of State, (202) 312-9605.

DATES: Effective January 12, 2004.

Dated: January 2, 2004.
Barbara M. Williams,
Deputy Standard and Optional Forms Management Officer, General Services Administration.

[FR Doc. 04-505 Filed 1-9-04; 8:45 am]

BILLING CODE 6820-34-M